DEPARTMENT OF COMMERCE

National Oceanic and Atmospheric Administration

[RTID 0648-XB650]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day hybrid meeting for both in-person and virtual participation of its Standing, Reef Fish, Socioeconomic, and Ecosystem Scientific and Statistical Committees (SSC).

DATES: The meeting will take place Tuesday, January 11 to Thursday, January 13, 2022, from 9 a.m. to 5 p.m., EST daily.

ADDRESSES: Those who prefer to attend the meeting in-person may do so at the Gulf Council office. If you are unable or do not wish to travel, you may participate in the meeting via webinar. Registration information will be available on the Council's website by visiting www.gulfcouncil.org and clicking on the “meeting tab”.

Council address: Gulf of Mexico Fishery Management Council, 4107 W. Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, January 11, 2022; 9 a.m.-5 p.m., EST

The meeting will begin with Introductions and Adoption of Agenda, Approval of Verbatim Minutes and Meeting Summary from the November 18, 2021 meeting, and review of Scope of Work. The Committees will select an SSC Representative for the January 24-27, 2022 Gulf Council Meeting. Following, Committees will review the Absolute Abundance Estimates for Red Snapper, Greater Amberjack and other Federally Managed Fish on Offshore Petroleum Platforms in the Gulf of Mexico, evaluate Access-Point Angler Intercept Survey (APAIS) Intercepts for Yellowtail Snapper in the Gulf of Mexico and review the National Academics of Science Report on the Impacts of Limited Access Privilege Programs in Mixed-use Fisheries, including presentations, reports, and SSC discussion.

The Committees will also review Spatial Coverage and Severity of the 2020/21 Red Tide on the West Florida Shelf, Simulation of the Effect of Marine Recreational Information Program Fishing Effort Survey (MRIP-FES) Data on Catch Advice for a Historical King Mackerel Stock Assessment and discuss Draft Essential Fish Habitat Amendment and Data; including presentations, reports, a draft amendment, and SSC discussion.

Wednesday, January 12, 2022; 9 a.m.-5 p.m., EST

The Committees will receive a status update on Red Snapper Management and Outstanding Council Motion, and a summary of SSC Discussion and Recommendations on Great Red Snapper Count Report (GSRC) Report from March/April 2020 and September 2020 Meetings. The Committees will review the GRSC: Re-analysis of the Florida natural/unconsolidated bottom-type data to include the random forest design stratification; Discussion of Results of Post-stratification Analysis by SEFSC, FWC, and GRSC Teams for Florida Absolute Abundance Data; Fishery-Independent Indices Updates for Red Snapper; review Estimated Commercial and Recreational Effort over Uncharacterized Bottom in the Gulf of Mexico; including presentations, supporting documentation, and SSC discussions.

Thursday, January 13, 2022; 9 a.m.-5 p.m., EST

The Committees will hold a summary discussion and review potential requests for Updated SEFSC Red Snapper Interim Analysis for Catch Advice for the March 2022 SSC Meeting and review National Marine Fisheries Service's (NMFS) Standardized Bycatch Reporting Methodology. Lastly, the Committees will receive public comment before addressing any items under Other Business.

Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: December 16, 2021.
Tracey L. Thompson,
Acting Deputy Director, Office of Sustainable Fisheries, National Marine Fisheries Service.

[FR Doc. 2021-27679 Filed 12-21-21; 8:45 am]

BILLING CODE 3510-22-P